ENVIRONMENTAL PROTECTION AGENCY

40 CFR Part 97

[FRL-9435-6]

Data Availability Concerning Transport Rule Allowance Allocations to Existing Units

AGENCY: Environmental Protection Agency (EPA).

ACTION: Notification of data availability (NODA).

SUMMARY: In the Transport Rule Federal Implementation Plans (FIPs), EPA finalized allowance allocations for 2012 and thereafter to existing units subject to the Transport Rule FIP trading programs in Alabama, Arkansas, Florida, Georgia, Illinois, Indiana, Iowa, Kansas, Kentucky, Louisiana, Maryland, Michigan, Minnesota, Mississippi, Missouri, Nebraska, New Jersey, New York, North Carolina, Ohio, Pennsylvania, South Carolina, Tennessee, Texas, Virginia, West Virginia, and Wisconsin. As required in the Transport Rule, this NODA notifies the public of the availability of data on these allowance allocations for existing units. Through this NODA, EPA is also making available to the public the data upon which the allocations were based.

FOR FURTHER INFORMATION CONTACT: Questions concerning this action should be addressed to Brian Fisher, telephone (202) 343-9633, and e-mail fisher.brian@epa.gov, Michael Cohen, telephone (202) 343-9497 and e-mail cohen.michael@epa.gov, or Robert Miller, telephone (202) 343.9077, and e-mail miller.robertl@epa.gov. The mailing address for the aforementioned contacts is U.S. Environmental Protection Agency, CAMD (6204J), 1200 Pennsylvania Ave., NW., Washington, DC 20460.

SUPPLEMENTARY INFORMATION: The detailed unit-by-unit data, calculations, and allowance allocation determinations are set forth in a technical support document in an Excel spreadsheet format titled “Unit Level Allocations Under the Transport Rule FIP” and available on EPA's Web site at http://www.epa.gov/airtransport/actions.html.

EPA is not requesting responses to the data made available through this NODA, which makes available data on allowance allocations finalized in the Transport Rule. Providing an allocation to an existing unit does not constitute a determination that the unit is a covered unit, and not providing an existing-unit allocation to a unit does not constitute a determination that the unit is not a covered unit. See §§ 97.411(a)(1), 97.511(a)(1), 97.611(a)(1), and 97.711(a)(1) of the Transport Rule.

Under the Transport Rule FIPs, EPA must record allowance allocations by certain deadlines. In particular, allowance allocations addressed by this NODA for existing units for 2012 must be recorded, within 90 days of the publication of the Transport Rule in the Federal Register, in the compliance accounts of existing units. See §§ 97.421(a), 97.521(a), 97.621(a), and 97.721(a) of the Transport Rule.

For 2013 and beyond, the Administrator must record, by certain specified deadlines, allowance allocations for existing units. See §§ 97.421(b) through (f), 97.521(b) through (f), 97.621(b) through (f), and 97.721(b) through (f) of the Transport Rule.

Under certain circumstances, the allowance allocations addressed in this NODA to existing units are subject to termination or correction, and the provisions establishing these allocations may be replaced by a SIP revision. See §§ 97.411(a)(2), 97.511(a)(2), 97.611(a)(2), and 97.711(a)(2) (concerning termination of allocations of non-operating units) and 97.411(c), 97.511(c), 97.611(c), and 97.711(c) (concerning incorrect allocations) of the Transport Rule and §§ 52.38(a)(3) through (5) and (b)(3) through (5) and 52.39(d) through (i) of the Transport Rule (concerning SIP revisions).

Dated: July 6, 2011.
Jackie Krieger,
Chief of Staff, Office of Atmospheric Programs.

[FR Doc. 2011-17903 Filed 7-15-11; 8:45 am]

BILLING CODE 6560-50-P